NUCLEAR REGULATORY COMMISSION

[NRC-2009-0339]

Notice of Publication of Draft Revision 2, NUREG-1520, “Standard Review Plan for the Review of a License Application for a Fuel Cycle Facility” and Opportunity To Provide Comments

AGENCY: Nuclear Regulatory Commission (NRC).

ACTION: Notice of availability of the proposed revision to NUREG-1520 and request for public comment.

SUMMARY: The Nuclear Regulatory Commission (NRC) is announcing the availability of a revision to NUREG-1520, “Standard Review Plan for the Review of a License Application for a Fuel Cycle Facility” for public comment.

DATES: Comments on these documents should be submitted by September 21, 2009. Comments received after that date will be considered to the extent practicable. To ensure efficient and complete comment resolution, comments should include references to the section, page, and line numbers of the document to which the comment applies, if possible.

ADDRESSES: You may submit comments by any one of the following methods. Please include Docket ID NRC-2009-0339 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0339. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The Standard Review Plan (NUREG-1520) is available electronically under ADAMS Accession Number ML091470567.

Federal Rulemaking Web site: Public comments and supporting materials related to this notice can be found at http://www.regulations.gov by searching on Docket ID: NRC-2009-0339.

FOR FURTHER INFORMATION CONTACT: Cinthya Román Cuevas, Chemical Engineer, Office of Nuclear Material Safety and Safeguards, U.S. Nuclear Regulatory Commission, Washington, DC 20555-0001 by telephone at 301-492-3224 or e-mail at cinthya.roman@nrc.gov.

SUPPLEMENTARY INFORMATION: The standard review plan (SRP) for the review of a license application for a fuel cycle facility (NUREG-1520) provides NRC staff guidance for reviewing and evaluating the safety, health, and environmental protection aspects of applications for licenses to possess and use SNM to produce nuclear reactor fuel. The licensing guidance revision is also intended to provide information needed to better risk-inform the preoperational readiness reviews. Specifically, items or features or aspects of the design identified during the licensing review as important, will be highlighted to verify compliance with specific commitments during the preoperational readiness reviews.

The SRP has been updated to improve and enhance the guidance by providing increased clarity and definition in specific areas of the licensing program and adding additional guidance in areas where information was lacking or not suitably addressed. This effort was focused on improving both the clarity, and also consistency, of the SRP, with the Agency positions that support compliance with current regulations. In addition, this revision has been reformatted and reorganized to improve the consistency within the document.

Dated at Rockville, MD, this 28th day of July 2009.
For the Nuclear Regulatory Commission.
Michael Tschiltz,
Deputy Director, Fuel Facility Licensing Directorate, Division of Fuel Cycle Safety and Safeguards, Office of Nuclear Material Safety and Safeguards.

[FR Doc. E9-18686 Filed 8-4-09; 8:45 am]

BILLING CODE 7590-01-P